ENVIRONMENTAL PROTECTION AGENCY

[EPA-HQ-OPP-2017-0687; FRL-10016-58-OMS]

Information Collection Request Submitted to OMB for Review and Approval; Comment Request; Submission of Unreasonable Adverse Effects Information Under the Federal Insecticide, Fungicide, and Rodenticide Act (FIFRA) Section 6(a)(2) (Renewal)

AGENCY: Environmental Protection Agency (EPA).

ACTION: Notice.

SUMMARY: The Environmental Protection Agency has submitted an information collection request (ICR), Submission of Unreasonable Adverse Effects under FIFRA Section 6(a)(2) (EPA ICR Number 1204.14, OMB Control Number 2070-0039) to the Office of Management and Budget (OMB) for review and approval in accordance with the Paperwork Reduction Act. This is a proposed extension of the ICR, which is currently approved through February 28, 2021. Public comments were previously requested via the Federal Register on August 17, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before February 1, 2021.

ADDRESSES: Submit your comments to EPA, referencing Docket ID No. EPA-HQ-OPP-2017-0687, online using www.regulations.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460; telephone number: (703) 347-0159; email address: siu.carolyn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Federal Insecticide, Fungicide and Rodenticide Act (FIFRA) section 6(a)(2) requires pesticide registrants to submit information to the Agency which may be relevant to the balancing of the risks and benefits of a pesticide product. The statute requires the registrant to submit any factual information that it acquires regarding adverse effects associated with its pesticidal products, and it is up to the Agency to determine whether or not that factual information constitutes an unreasonable adverse effect. In order to limit the amount of less meaningful information that might be submitted to the Agency, the EPA has limited the scope of factual information that the registrant must submit. The Agency's regulations at 40 CFR part 159 provide a detailed description of the reporting obligations of registrants under FIFRA section 6(a)(2).

Form Numbers: None.

Respondents/affected entities: Pesticide and other agricultural chemical manufacturing.

Respondent's obligation to respond: Mandatory under FIFRA section 6(a)(2).

Estimated number of respondents: 1,452 (total).

Frequency of response: On occasion.

Total estimated burden: 301,118 hours (per year). Burden is defined at 5 CFR 1320.03(b).

Total estimated cost: $19,999,815 (per year), includes no annualized capital or operation & maintenance costs.

Changes in the Estimates: There is no change in the total estimated respondent burden compared with the ICR currently approved by OMB.

Dated: December 16, 2020.
Courtney Kerwin,
Director, Regulatory Support Division.

[FR Doc. 2020-28995 Filed 12-30-20; 8:45 am]

BILLING CODE 6560-50-P